DEPARTMENT OF TRANSPORTATION

Federal Aviation Administration

14 CFR Part 71

[Docket No. FAA-2011-1193; Airspace Docket No. 11-ANM-14]

Modification of Area Navigation Route T-288; WY

AGENCY: Federal Aviation Administration (FAA), DOT.

ACTION: Final rule.

SUMMARY: This action modifies area navigation (RNAV) route T-288 by extending the route westward from the Rapid City, SD, VORTAC to the Gillette, WY, VOR/DME. This extension enhances the efficiency and safety of the National Airspace System (NAS) by supplementing the existing VOR Federal airway structure in that area.

DATES: Effective Dates: 0901 UTC, April 5, 2012. The Director of the Federal Register approves this incorporation by reference action under 1 CFR part 51, subject to the annual revision of FAA Order 7400.9 and publication of conforming amendments.

FOR FURTHER INFORMATION CONTACT: Paul Gallant, Airspace, Regulations and ATC Procedures Group, Office of Airspace Services, Federal Aviation Administration, 800 Independence Avenue SW., Washington, DC 20591; telephone: (202) 267-8783.

SUPPLEMENTARY INFORMATION:

History

On December 6, 2011, the FAA published in the Federal Register a notice of proposed rulemaking (NPRM) to modify RNAV route T-288 by adding a new segment between the Rapid City, SD, VORTAC (RAP) and the Gillette, WY, VOR/DME (GCC) (76 FR 76070). Interested parties were invited to participate in this rulemaking effort by submitting written comments on the proposal. No comments were received.

In the NPRM, the state designation (WY) for the KARAS intersection was inadvertently omitted from the route description. With the exception of that editorial change, this amendment is the same as that proposed in the NPRM.

The Rule

This action amends Title 14 Code of Federal Regulations (14 CFR) part 71 to modify RNAV route T-288 by adding a new segment between the Rapid City, SD, VORTAC and the Gillette, WY, VOR/DME. The extension supplements the existing VOR Federal airway structure to provide alternative routing between Gillette and Rapid City in the event of navigation aid outages.

RNAV routes are published in paragraph 6011 of FAA Order 7400.9V signed August 9, 2011 and effective September 15, 2011, which is incorporated by reference in 14 CFR 71.1. The jet route listed in this document will be published subsequently in the Order.

The FAA has determined that this regulation only involves an established body of technical regulations for which frequent and routine amendments are necessary to keep them operationally current. Therefore, this regulation: (1) Is not a “significant regulatory action” under Executive Order 12866; (2) is not a “significant rule” under Department of Transportation (DOT) Regulatory Policies and Procedures (44 FR 11034; February 26, 1979); and (3) does not warrant preparation of a regulatory evaluation as the anticipated impact is so minimal. Since this is a routine matter that will only affect air traffic procedures and air navigation, it is certified that this rule, when promulgated, will not have a significant economic impact on a substantial number of small entities under the criteria of the Regulatory Flexibility Act.

The FAA's authority to issue rules regarding aviation safety is found in Title 49 of the United States Code. Subtitle I, Section 106 describes the authority of the FAA Administrator. Subtitle VII, Aviation Programs, describes in more detail the scope of the agency's authority.

This rulemaking is promulgated under the authority described in Subtitle VII, Part A, Subpart I, Section 40103. Under that section, the FAA is charged with prescribing regulations to assign the use of the airspace necessary to ensure the safety of aircraft and the efficient use of airspace. This regulation is within the scope of that authority as it expands RNAV route coverage to enhance the safe and efficient flow of traffic in the western United States.

Environmental Review

The FAA has determined that this action qualifies for categorical exclusion under the National Environmental Policy Act in accordance with FAA Order 1050.1E, “Environmental Impacts: Policies and Procedures,” paragraph 311a. This airspace action is not expected to cause any potentially significant environmental impacts, and no extraordinary circumstances exist that warrant preparation of an environmental assessment.

List of Subjects in 14 CFR Part 71

Airspace, Incorporation by reference, Navigation (air).

Adoption of the Amendment

In consideration of the foregoing, the Federal Aviation Administration amends 14 CFR part 71 as follows:

PART 71—DESIGNATION OF CLASS A, B, C, D, AND E AIRSPACE AREAS; AIR TRAFFIC SERVICE ROUTES; AND REPORTING POINTS

1. The authority citation for part 71 continues to read as follows:

Authority: 49 U.S.C. 106(g), 40103, 40113, 40120; E.O. 10854, 24 FR 9565, 3 CFR, 1959-1963 Comp., p.389.

§ 71.1 [Amended]

2. The incorporation by reference in 14 CFR 71.1 of FAA Order 7400.9V, Airspace Designations and Reporting Points, dated August 9, 2011 and effective September 15, 2011, is amended as follows:

Paragraph 6011 United States area navigation routes.

* * * * *

T-288 Gillette, WY (GCC) to Wolbach, NE (OBH) [Amended]

Gillette, WY (GCC) VOR/DME

(Lat. 44°20′52″ N., long. 105°32′37″ W.)

KARAS, WY INT

(Lat. 44°16′23″ N., long. 104°18′50″ W.)

Rapid City, SD (RAP) VORTAC

(Lat. 43°58′34″ N., long. 103°00′42″ W)

WNDED, SD WP

(Lat. 43°19′14″ N., long. 101°32′19″ W.)

Valentine, NE (VTN) NDB

(Lat. 42°51′42″ N., long. 100°32′59″ W.)

Ainsworth, NE (ANW) VOR/DME

(Lat. 42°34′09″ N., long. 99°59′23″ W.)

FESNT, NE WP

(Lat. 42°03′57″ N., long. 99°17′18″ W.)

Wolbach, NE (OBH) VORTAC

(Lat. 41°22′33″ N., long. 98°21′13″ W.)

Issued in Washington, DC, on February 2, 2012.
Gary A. Norek,
Acting Manager, Airspace, Regulations and ATC Procedures Group.

[FR Doc. 2012-3813 Filed 2-17-12; 8:45 am]

BILLING CODE 4910-13-P